DEPARTMENT OF AGRICULTURE

Foreign Agricultural Service

Trade Adjustment Assistance for Farmers

AGENCY: Foreign Agricultural Service, USDA.

ACTION: Notice.

The Administrator, Foreign Agricultural Service (FAS), today terminated the certification of a petition for trade adjustment assistance (TAA) that was by a group of Concord juice grape producers in New York, Pennsylvania, and Ohio. New York, Pennsylvania, and Ohio Concord juice grape producers are no longer eligible for TAA benefits in fiscal year 2006.

SUPPLEMENTARY INFORMATION: Upon investigation, the Administrator determined that U.S. imports of grape juice & must, unfermented, not concentrated, in 2004/05 declined 39 percent compared to the base year 2003/04. Therefore, imports were no longer a contributing factor for program eligibility—a requirement for TAA program eligibility and therefore insufficient grounds to re-certify this petition.

FOR FURTHER INFORMATION, CONTACT: Jean-Louis Pajot, Coordinator, Trade Adjustment Assistance for Farmers, FAS, USDA, (202) 720-2916, e-mail: trade.adjustment@fas.usda.gov.

Dated: March 9, 2006.
Elen Terpstra,
Administrator, Foreign Agricultural Service.

[FR Doc. E6-4142 Filed 3-22-06; 8:45 am]

BILLING CODE 3410-10-P